DEPARTMENT OF COMMERCE

National Oceanic and Atmospheric Administration

RIN 0648-XE371

North Pacific Fishery Management Council; Public Meeting

AGENCY: National Marine Fisheries Service (NMFS), National Oceanic and Atmospheric Administration (NOAA), Commerce.

ACTION: Notice of public meeting.

SUMMARY: The North Pacific Fishery Management Council (Council) Electronic Monitoring Workgroup (EMWG) will meet in Anchorage, AK.

DATES: The meeting will be held on Monday, January 11, 2016, from 12:30 p.m. to 5 p.m. and on Tuesday, January 12, 2016, from 8 a.m. to 5 p.m.

ADDRESSES: The meeting will be held in the Aspen room at the Hilton Hotel, 500 W. 3rd Ave., Anchorage, AK 99501.

Council address: North Pacific Fishery Management Council, 605 W. 4th Ave., Suite 306, Anchorage, AK 99501-2252; telephone: (907) 271-2809.

FOR FURTHER INFORMATION CONTACT: Diana Evans, Council staff; telephone: (907) 271-2809.

SUPPLEMENTARY INFORMATION:

Agenda

Monday, January 11, 2016 Through Tuesday, January 12, 2016

The agenda will include a review of the 2016 pre-implementation program and other 2016 research, the EM integration analysis and progress with analytical studies, review of the budget, and other business and scheduling.

The Agenda is subject to change, and the latest version will be posted at http://www.npfmc.org/

Special Accommodations

These meetings are physically accessible to people with disabilities. Requests for sign language interpretation or other auxiliary aids should be directed to Shannon Gleason at (907) 271-2809 at least 7 working days prior to the meeting date.

Dated: December 18, 2015.
Tracey L. Thompson,
Acting Deputy Director, Office of Sustainable Fisheries, National Marine Fisheries Service.

[FR Doc. 2015-32296 Filed 12-22-15; 8:45 am]

BILLING CODE 3510-22-P